COMMODITY FUTURES TRADING COMMISSION

Agency Information Collection Activities Under OMB Review

AGENCY: Commodity Futures Trading Commission.

ACTION: Notice; Information collection 3038-0017, Market Surveys.

SUMMARY: In compliance with the Paperwork Reduction Act (44 U.S.C. 3501 et seq.), this notice announces that the Information Collection Request (ICR) abstracted below has been forwarded to the Office of Management and Budget (OMB) for review and comment. The ICR describes the nature of the information collection and its expected cost and burden; it includes the actual data collection instruments (if any).

DATES: Comments must be submitted on or before September 24, 2003.

FOR FURTHER INFORMATION OR A COPY CONTACT: Judith Payne at CFTC, (202) 418-5268; FAX: (202) 418-5527; e-mail: jpayne@cftc.gov and refer to OMB Control No. 3038-0017.

SUPPLEMENTARY INFORMATION:

Title: Market Surveys, OMB Control No. 3038-0017. This is a request for extension of a currently approved information collection.

Abstract: Sections 8(a)(i) and (ii) of the Commodity Exchange Act provide for the efficient execution of the provisions of the Act and in order to inform Congress, the Commission may make investigations concerning futures markets and may publish general information from such investigations. In certain instances in response to abrupt and substantial changes in market prices, Congressional inquiry or other reasons, the Commission may conduct full market investigations requiring that all persons holding futures positions on the date in question in a specific market to be identified. In such cases, the Commission issues its call for survey information pursuant to Commission Rule 21.02, 17 CFR 21.02.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on June 17, 2003 (68 FR 35870).

Burden statement: The respondent burden for this collection is estimated to average 1.75 hours per response. This estimate includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected entities: 400.

Estimated number of responses: 400.

Estimated total annual burden on respondents: 700 hours.

Frequency of collection: Annually.

Send comments regarding the burden estimated or any other aspect of the information collection, including suggestions for reducing the burden, to the addresses listed below. Please refer to OMB Control No. 3038-0017 in any correspondence.

Judith Payne, Commodity Futures Trading Commission, 1155 21st Street, NW., Washington, DC 20581 and Office of Information and Regulatory Affairs, Office of Management and Budget, Attention: Desk Office for CFTC, 725 17th Street, NW., Washington, DC 20503.

Issued in Washington, DC, on August 19, 2003.
Jean A. Webb,
Secretary of the Commission.

[FR Doc. 03-21633 Filed 8-22-03; 8:45 am]

BILLING CODE 6351-01-M